DEPARTMENT OF COMMERCE

Foreign-Trade Zones Board

[Docket 37-2011]

Foreign-Trade Zone 170—Clark County, IN; Application for Reorganization (Expansion of Service Area) Under Alternative Site Framework

An application has been submitted to the Foreign-Trade Zones (FTZ) Board (the Board) by the Ports of Indiana, grantee of Foreign-Trade Zone 170, requesting authority to reorganize the zone to expand its service area under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u) and the regulations of the Board (15 CFR part 400). It was formally filed on May 23, 2011.

FTZ 170 was approved by the Board on December 27, 1990 (Board Order 495, 56 FR 673, 1/8/91) and expanded on July 23, 1997 (Board Order 907, 62 FR 40796, 7/30/97) and September 24, 2004 (Board Order 1355, 69 FR 58884, 10/1/04). FTZ 170 was reorganized under the ASF on August 31, 2010 (Board Order 1704, 75 FR 55309, 9/10/2010). The zone project currently has a service area that includes Jackson, Washington, Harrison, Floyd, Clark and Scott Counties, Indiana.

The applicant is now requesting authority to expand the service area of the zone to include Jefferson, Ripley, Dearborn, Brown, Ohio and Switzerland Counties, as described in the application. If approved, the grantee would be able to serve sites throughout the expanded service area based on companies' needs for FTZ designation. The proposed expanded service area is adjacent to the Louisville, Kentucky and Cincinnati, Ohio Customs and Border Protection Ports of Entry

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is July 26, 2011. Rebuttal comments in response to material submitted during the foregoing period may be submitted during the subsequent 15-day period to August 10, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Elizabeth Whiteman at Elizabeth_Whiteman@trade.gov or (202) 482-0473.

Dated: May 23, 2011.
Andrew McGilvray,
Executive Secretary.

[FR Doc. 2011-13246 Filed 5-26-11; 8:45 am]

BILLING CODE P